ENVIRONMENTAL PROTECTION AGENCY

[EPA-HQ-OW-2015-0641; FRL-9992-40-OMS]

Information Collection Request Submitted to OMB for Review and Approval; Comment Request; BEACH Act Grants (Renewal)

AGENCY: Environmental Protection Agency (EPA).

ACTION: Notice.

SUMMARY: The Environmental Protection Agency (EPA) has submitted an information collection request (ICR), BEACH Act Grants (EPA ICR Number 2048.06, OMB Control Number 2040-0244) to the Office of Management and Budget (OMB) for review and approval in accordance with the Paperwork Reduction Act. This is a proposed extension of the ICR, which is currently approved through July 31, 2019. Public comments were previously requested via the Federal Register on November 21, 2018, during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 1, 2019.

ADDRESSES: Submit your comments, referencing Docket ID Number EPA-HQ-OW-2015-0641, to (1) EPA online using www.regulations.gov (our preferred method), or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Tracy Bone, OW, 4305T, Environmental Protection Agency, 1200 Pennsylvania Ave. NW, Washington, DC 20460; telephone number: 202-564-5257; email address: bone.tracy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: The Beaches Environmental Assessment and Coastal Health (BEACH) Act amends the Clean Water Act (CWA) in part and authorizes the U.S. Environmental Protection Agency (EPA) to award BEACH Act Program Development and Implementation Grants to coastal and Great Lakes states, tribes, and territories (collectively referred to as jurisdictions) for their beach monitoring and notification programs. The grants assist those jurisdictions to develop and implement a consistent approach to monitor recreational water quality; assess, manage, and communicate health risks from waterborne microbial contamination; notify the public of pollution occurrences, and post beach advisories and closures to prevent public exposure to microbial pathogens. To qualify for a BEACH Act Grant, a jurisdiction must submit information to the EPA documenting that its beach monitoring and notification program is consistent with performance criteria outlined in the National Beach Guidance and Required Performance Criteria for Grants, 2014 Edition.

Form Numbers: None.

Respondents/affected entities: Entities potentially affected by this action are environmental and public health agencies in coastal and Great Lakes states, territories, and tribes.

Respondent's obligation to respond: Required to obtain the grants as directed by the BEACH Act amendment to the CWA.

Estimated number of respondents: 39 (total).

Frequency of response: Annual; however, the Agency encourages more frequent reporting to provide more up- to-date information to the public.

Total estimated burden: 88,569 hours (per year). Burden is defined at 5 CFR 1320.03(b).

Total estimated cost: $14,865,812 (per year), includes $11,063,780 (per year) operation & maintenance costs. There are no capital costs.

Changes in the Estimates: There is a decrease of 2,707 hours in the total respondent burden compared with the ICR currently approved by OMB. This decrease is due to the respondents no longer needing to prepare and submit schedules for the adoption of new or revised water quality standards (WQS) and identification and use of a beach notification threshold (BNT). The EPA no longer requests respondents submit these schedules because they are using BNTs or alternate BNTs and have either adopted new or revised WQS or are in the process of doing so. This decrease in hours is partially offset by one additional tribe having qualified for a BEACH grant. The total respondent cost decreased by $587,496. The decrease in cost is partially offset by slight increases in the salary rates. The O&M decreased by $289,366 due to a reduction in the total number of beaches. The number of beaches reported by the jurisdictions varies from year to year for many reasons. Reasons for removing beaches include the destruction of beaches by natural disasters, change in beach ownership, and existing beaches being combined within a jurisdiction's monitoring and notification program.

Courtney Kerwin,
Director, Regulatory Support Division.

[FR Doc. 2019-11348 Filed 5-30-19; 8:45 am]

BILLING CODE 6560-50-P